FEDERAL MARITIME COMMISSION

Sunshine Act Meeting

AGENCY HOLDING THE MEETING: Federal Maritime Commission.

TIME AND DATE: February 13, 2013 10:00 a.m.

PLACE: 800 North Capitol Street NW., First Floor Hearing Room, Washington, DC.

STATUS: The meeting will be held in Open Session.

Matters To Be Considered

1. Docket No. 11-22: Non-Vessel-Operating Common Carrier Negotiated Rate Arrangements; Tariff Filing Exemption.

2. Revised Timetable for Retrospective Review of Existing Rules: Priority of Review of Service Contract and Negotiated NVOCC Service Arrangement Rules.

3. Docket No. 11-16: Passenger Vessel Operator Financial Responsibility Requirements for Nonperformance of Transportation and Technical Revision to Passenger Vessel Operator Regulations.

4. Draft Concerning Licensing, Financial Responsibility Requirements, and General Duties for Ocean Transportation Intermediaries.

CONTACT PERSON FOR MORE INFORMATION: Karen V. Gregory, Secretary, (202) 523-5725.

Karen V. Gregory,
Secretary.

[FR Doc. 2013-03052 Filed 2-6-13; 4:15 pm]

BILLING CODE 6730-01-P